DEPARTMENT OF THE INTERIOR

Bureau of Land Management

[OR-025-03-1430-EU: G-3-0142]

Realty Action: Sale of Public Land in Harney County, OR

AGENCY: Bureau of Land Management (BLM), Interior.

ACTION: Notice of realty action.

SUMMARY: The following described parcels of public land in Harney County, Oregon, have been found suitable for sale under Sections 203 and 209 of the Federal Land Policy and Management Act of 1976, as amended, (90 Stat. 2750, 43 U.S.C. 1713 and 1719) at not less than their respective appraised market value. All parcels proposed for sale are identified for disposal in the Three Rivers Resource Management Plan. All of the land described is within the Willamette Meridian.

Parcel No. | Legal description | Acres | Market value/minimum bid | Bidding procedures | Designated bidders
OR-57461 | T. 20S., R. 35E., sec. 7, E½SE¼; sec. 8, W½SW¼ | 160 | $24,800 | Competitive | None.
OR-57462 | T. 21S., R. 31E., sec. 5, lots 5, 6, 7 and 8 | 109.42 | 15,900 | Competitive | None.
OR-57463 | T. 22S., R. 29E., sec. 28, W½SW¼ | 80 | 12,800 | Competitive | None.
OR-57464 | T. 22S., R. 33E., sec. 22, NW¼NW¼ | 40 | 3,000 | Modified Competitive | Temple and Temple, Lost Springs Ranch, LLC.
OR-57465 | T. 22S., R. 33E., sec. 22, SW¼SW¼ | 40 | 3,000 | Modified Competitive | Temple and Temple, Lost Springs Ranch, LLC, Bailey and Barton.
OR-57466 | T. 26S., R. 24E., sec. 34, NW¼NE¼ | 40 | 2,600 | Competitive | None.
OR-57467 | T. 25S., R. 32E., sec. 29, NE¼ | 160 | 16,600 | Competitive | None.
OR-57468 | T. 26S., R. 31E. (North of Malheur Lake), sec. 1, NE¼ | 160 | 11,600 | Modified Competitive | Tyler Brothers, Ralph Tice c/o Wallace M. Tice.
OR-57469 | T. 26S., R. 32E. (North of Malheur Lake), sec. 6, lot 3 | 40.62 | 3,050 | Modified Competitive | Tyler Brothers, Ralph Tice c/o Wallace M. Tice, Bethany Evangelical Free Church c/o Jamie Porter.
OR-57470 | T. 26S., R. 32E. (North of Malheur Lake), sec. 6, N½SE¼ | 80 | 5,800 | Modified Competitive | Tyler Brothers, Ralph Tice c/o Wallace M. Tice, William D. Cramer c/o Daniel L. Cronin.
OR-57471 | T. 26S., R. 30E., (North of Harney Lake), sec. 12, SW¼SW¼; sec. 13, NW¼NW¼ | 80 | 6,000 | Competitive | None.
OR-57472 | T. 26S., R. 30E., (North of Harney Lake), sec. 15, S½SE¼; sec. 22, NW¼NE¼ | 120 | 8,400 | Competitive | None.
OR-57473 | T. 26S., R. 30E., (North of Harney Lake), sec. 24, NE¼SE¼ | 40 | 3,000 | Competitive | None.
OR-57474 | T. 26S., R. 31E. (North of Malheur Lake), sec. 18, lot 4 | 39.18 | 3,150 | Competitive | None.
OR-57475 | T. 26S., R. 34E sec. 27, N½SW¼; sec. 28, NE¼SE¼ | 120 | 8,400 | Modified Competitive | Zachary O. Sword, Nevin and Shirley Thompson, Trustees.
OR-57476 | T. 26S., R. 34E., sec. 29, NE¼NE¼ | 40 | 3,200 | Modified Competitive | Zachary O. Sword, Nevin and Shirley Thompson, Trustees.
OR-57477 | T. 26S., R. 34E., sec. 29, SW¼NE¼ | 40 | 3,200 | Modified Competitive | Zachary O. Sword, Nevin and Shirley Thompson, Trustees.

The 17 parcels described above contain 1,389.22 acres in Harney County, Oregon.

The following parcels were originally offered in 2001 and 2002 under Notices of Realty Action published in the Federal Register on November 16, 2000 and May 1, 2002. No bids were received and these parcels were subsequently declared unsold under the provisions of those notices. They have been reappraised and are being reoffered competitively.

Parcel No. | Legal description | Acres | Market value/Minimum bid | Bidding procedures | Designated bidders
OR-55323 | T. 25S., R. 31E., sec. 1, lots 1 and 2 | 79.79 | $5,600 | Competitive | None.
OR-56574 | T. 22S., R. 33E., sec. 28, E½ | 320 | 40,000 | Competitive | None.
OR-56575 | T. 27S., R. 34E., sec. 6, lots 3, 4, 5, SE¼NW¼ | 145.56 | 21,100 | Competitive | None.
OR-56576 | T. 27S., R. 34E., sec. 9, SW¼SW¼ | 40 | 3,600 | Competitive | None.
OR-56577 | T. 27S., R. 34E., sec. 21, NE¼SE¼ | 40 | 3,200 | Competitive | None.
OR-56579 | T. 27S., R. 34E., sec. 23, S½SW¼; sec. 26, N½NW¼ | 160 | 11,200 | Competitive | None.

The six parcels described above contain 785.35 acres in Harney County, Oregon. The total area of these six parcels plus the preceding 17 parcels amount to 2,174.57 acres. The following rights, reservations, and conditions will be included in the conveyances of the land:

All parcels—A reservation for a right-of-way for ditches and canals constructed thereon by the authority of United States.

OR-56574—The sale of this parcel would be subject to a right-of-way for electric distribution line purposes granted to Harney Electric Cooperative (ORE-05183); a right-of-way for electric transmission line purposes granted to Idaho Power Company (ORE-012080); a right-of-way for buried communication cable purposes (OR-54600) and buried fiber optics facilities (OR-54915) granted to CenturyTel; a right-of-way for highway purposes granted to Oregon Department of Transportation (TD-030389); and a right-of-way for buried fiber optics facilities granted to Williams Communications, LLC (OR-54252).

OR-56575—The conveyance document for this parcel would contain a wetland/riparian covenant pursuant to the authority contained in Section (4) of Executive Order 11990 of May 24, 1977. The sale of this parcel would be subject to a right-of-way for public road purposes granted to Harney County (OR-56834).

OR-56576—The sale of this parcel would be subject to a right-of-way for power transmission and distribution line purposes granted to Harney Electric Cooperative (ORE-05183) and a right-of-way for telephone line purposes held by CenturyTel (ORE-018562).

OR-57461—The sale of this parcel would be subject to a right-of-way for electric power transmission and distribution purposes granted to Idaho Power (ORE-0874); a right-of-way for county road purposes granted to Oregon Department of Transportation, on behalf of Harney County (ORE-03347); a right-of-way for buried communication cable purposes granted to CenturyTel of Oregon, Inc. (OR-55250); a right-of-way for road purposes granted to Richard D. Boatwright, Jr. (OR-57058), and a right-of-way for road purposes granted to Charles Dunten (OR-58413).

OR-57462—The sale of this parcel would be subject to a right-of-way for electric power transmission purposes granted to Oregon Trail Electric Cooperative (ORE-016812).

OR-57463—The sale of this parcel would be subject to a right-of-way for road purposes held by Harney County (OR-20557).

OR-57467—The conveyance document for this parcel would contain a wetland/riparian covenant pursuant to the authority contained in Section (4) of Executive Order 11990 of May 24, 1977 and a floodplain covenant pursuant to the authority contained in Section 3(d) of Executive Order 11988 of May 24, 1977.

OR-57468—The conveyance document for this parcel would contain a floodplain covenant pursuant to the authority contained in Section 3(d) of Executive Order 11988 of May 24, 1977.

OR-57469—The conveyance document for this parcel would contain a floodplain covenant pursuant to the authority contained in Section 3(d) of Executive Order 11988 of May 24, 1977.

OR-57470—The conveyance document for this parcel would contain a floodplain covenant pursuant to the authority contained in Section 3(d) of Executive Order 11988 of May 24, 1977.

Access will not be guaranteed to any of the parcels that may be sold, nor will any warranty be made as to the title or use of the property in violation of applicable land use laws and regulations. Each parcel will be sold in “as is” condition. Before submitting a bid, prospective purchasers should check with the appropriate city or county planning department to verify approved uses. All persons, other than the successful bidders, claiming to own unauthorized improvements on the land are allowed 60 days from the date of sale to remove the improvements.

Each of the above described parcels is hereby segregated from appropriation under the public land laws, including the mining laws, until conveyance of the land pending disposition of this action, or until February 17, 2004, whichever occurs first.

Bidding Procedures

Competitive Procedures

The Federal Land Policy and Management Act and its implementing sale regulations (43 CFR part 2710) provide that competitive bidding will be the general method of selling land supported by factors such as competitive interest, accessibility, and usability of the parcel, regardless of adjacent ownership.

Under competitive procedures the land will be sold to any qualified bidder submitting the highest bid. Bidding will be by sealed bid followed by an oral auction to be held at 2 p.m. PST on Wednesday, August 13, 2003, at the Burns District Office, Bureau of Land Management, 28910 Hwy 20 West, Hines, Oregon.

To qualify for the oral auction bidders must submit a sealed bid meeting the requirements as stated below. The highest valid sealed bid will become the starting bid for the oral auction. Bidding in the oral auction will be in minimum increments of $100. The highest bidder from the oral auction will be declared the prospective purchaser.

If no valid bids are received, the parcel will be declared unsold and offered by unsold competitive procedures on a continuing basis until sold or withdrawn from sale.

Modified Competitive Procedures

Modified competitive procedures are allowed by the regulations (43 CFR 2710.0-6(c)(3)(ii)) to provide exceptions to competitive bidding to assure compatibility with existing and potential land uses.

Under modified competitive procedures the designated bidders identified in the table above will be given the opportunity to match or exceed the apparent high bid.

The apparent high bid will be established by the highest valid sealed bid received in an initial round of public bidding. If two or more valid sealed bids of the same amount are received for the same parcel, that amount shall be determined to be the apparent high bid. The designated bidders are required to submit a valid bid in the initial round of public bidding to maintain their preference consideration. The bid deposit for the apparent high bid(s) and the designated bidders will be retained and all others will be returned.

The designated bidders will be notified by certified mail of the apparent high bid. Where there are two or more designated bidders for a single parcel, they will be allowed 30 days to provide the authorized officer with an agreement as to the division of the property or, if agreement cannot be reached, sealed bids for not less than the apparent high bid. Failure to submit an agreement or a bid shall be considered a waiver of the option to divide the property equitably and forfeiture of the preference consideration. Failure to act by all of the designated bidders will result in the parcel being offered to the apparent high bidder or being declared unsold, if no bids were received in the initial round of bidding.

Unsold Competitive Procedures

Unsold competitive procedures will be used after a parcel has been unsuccessfully offered for sale by competitive or modified competitive procedures.

Unsold parcels will be offered competitively on a continuous basis until sold. Under competitive procedures for unsold parcels the person making the highest valid bid received during the preceding month, and not less than the appraised market value at the time, will be declared the purchaser. Sealed bids will be accepted and held until the second Wednesday of each month at 2 p.m. PST when they will be opened. Bid openings will take place every month until the parcels are sold or withdrawn from sale.

All sealed bids must be submitted to the Burns District Office, no later 2 p.m. PST on Wednesday, August 13, 2003, at the time of the bid opening and oral auction. The outside of bid envelopes must be clearly marked with “BLM Land Sale,” the parcel number and the bid opening date. Bids must be for not less than the appraised market value (minimum bid). Separate bids must be submitted for each parcel. Each sealed bid shall be accompanied by a certified check, postal money order, bank draft, or cashier's check made payable to the Department of the Interior—BLM for not less than 20 percent of the amount bid. The bid envelope must also contain a statement showing the total amount bid and the name, mailing address, and phone number of the entity making the bid. A successful bidder for competitive parcels shall make an additional deposit at the close of the auction to bring the total bid deposit up to the required 20 percent of the high bid. Personal checks or cash will be acceptable for this additional deposit only.

Federal law requires that public land may be sold only to either (1) Citizens of the United States 18 years of age or older; (2) corporations subject to the laws of any State or of the United States; (3) other entities such as an association or a partnership capable of holding land or interests therein under the laws of the State within which the land is located; or (4) a State, State instrumentality or political subdivision authorized to hold property. Certifications and evidence to this effect will be required of the purchaser prior to issuance of a patent.

Prospective purchasers will be allowed 180 days to submit the balance of the purchase price. Failure to meet this timeframe shall cause the deposit to be forfeited to the BLM. The parcel will then be offered to the next lowest qualified bidder, or if no other bids were received, the parcel will be declared unsold.

The BLM has determined that each of the above described parcels have no known mineral values, as defined in 43 CFR 2720.0-5(b). A successful bid on a parcel constitutes an application for conveyance of these mineral interests, pertaining to that parcel, under the authority of section 209(b) of the Federal Land Policy and Management Act of 1976. In addition to the full purchase price for each parcel, a nonrefundable fee of $50 will be required from the prospective purchaser in conjunction with the purchase of the mineral interests to be conveyed simultaneously with the purchase and sale of the surface estate.

DATES: On or before July 7, 2003, any person may submit written comments regarding the proposed sale to the Three Rivers Resource Area Field Manager at the address described below. Comments or protests must reference a specific parcel and be identified with the appropriate serial number. In the absence of any objections, this proposal will become the determination of the Department of the Interior.

ADDRESSES: Comments, bids, and inquiries should be submitted to the Three Rivers Resource Area Field Manager, Bureau of Land Management, 28910 Hwy 20 West, Hines, Oregon 97738.

FOR FURTHER INFORMATION CONTACT: Detailed information concerning this public land sale is available on the Internet at <http://www.or.blm.gov/Burns> or may be obtained from Joan Suther, Field Manager; Skip Renchler or Holly LaChapelle, Realty Specialists, Three Rivers Resource Area at the above address, phone (541) 573-4400.

Dated: April 8, 2003.
Joan M. Suther,
Three Rivers Resource Area Field Manager.

[FR Doc. 03-12910 Filed 5-19-03; 3:15 pm]

BILLING CODE 4310-33-P